ENVIRONMENTAL PROTECTION AGENCY

[EPA-HQ-OAR-2011-0891; FRL 9514-5]

Agency Information Collection Activities; Submission to OMB for Review and Approval; Comment Request; Recordkeeping and Periodic Reporting of the Production, Import, Export, Recycling, Destruction, Transhipment, and Feedstock Use of Ozone-Depleting Substances (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before May 4, 2012.

ADDRESSES: Submit your comments, identified by Docket ID No. EPA-HQ-OAR-2011-0891, to (1) EPA online using www.regulations.gov (our preferred method), by email to a-and-r-Docket@epa.gov, or by mail to: EPA Docket Center, Environmental Protection Agency, Mailcode: 28221T, 1200 Pennsylvania Ave. NW., Washington, DC 20460 and (2) OMB by mail to: Office of Information and Regulatory Affairs, Office of Management and Budget, Attention: Desk Officer for EPA, 725 17th Street NW., Washington, DC 20503.

FOR FURTHER INFORMATION CONTACT: Staci Gatica, Stratospheric Protection Division, Office of Atmospheric Programs (6205J), Environmental Protection Agency, 1200 Pennsylvania Ave. NW., Washington, DC 20460; telephone number: (202) 343-9469; fax number: (202) 343-2338; email address: gatica.staci@epa.gov. You may also visit the Ozone Depletion Web site at www.epa.gov/ozone/strathome.html.

SUPPLEMENTARY INFORMATION: EPA has submitted the following ICR to OMB for review and approval according to the procedures prescribed in 5 CFR 1320.12. On November 30, 2011 (76 FR 74055), EPA sought comments on this ICR pursuant to 5 CFR 1320.8(d). EPA received one late comment, which is addressed in the ICR. Any additional comments should be submitted to EPA and OMB within 30 days of this notice.

EPA has established a public docket for this ICR under Docket ID No. EPA-HQ-OAR-2011-0891, which is available for online viewing at www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for Air and Radiation Docket is 202-566-1742.

Use EPA's electronic docket and comment system at www.regulations.gov to submit or view public comments, access the index listing of the contents of the docket, and to access those documents in the public docket that are available electronically. Once in the system, select “search,” then key in the docket ID number identified in this document. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Recordkeeping and Periodic Reporting of the Production, Import, Export, Recycling, Destruction, Transhipment, and Feedstock Use of Ozone-Depleting Substances (Renewal).

ICR numbers: EPA ICR No. 1432.30, OMB Control No. 2060-0170.

ICR status: This ICR is currently scheduled to expire on April 30, 2012. Under OMB regulations, the Agency may continue to conduct or sponsor the collection of information while the submission is pending at OMB. An Agency may not conduct or sponsor, and a person is not required to respond to, a collection of information, unless it displays a currently valid OMB control number. The OMB control numbers for EPA's regulations in Title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: This ICR authorizes the recordkeeping and reporting requirements established in the regulations stated in 40 CFR part 82, subpart A and as required by the United States' commitments under The Montreal Protocol on Substances that Deplete the Ozone Layer (Protocol). This information collection allows EPA to monitor the United States' compliance with the Protocol and Title VI of the Clean Air Act Amendments of 1990 (CAA).

Under its Protocol commitments, the United States is obligated to cease production and import of Class I controlled substances excluding chlorofluorocarbons (CFCs) that are subject to essential use exemptions, methyl bromide that is subject to critical use exemptions or exemptions for quarantine and preshipment uses, previously used material, and material that will be transformed, destroyed, or exported to developing countries. The Protocol also establishes limits and reduction schedules leading to the eventual phaseout of Class II controlled substances with similar exemptions beyond the phaseout. The CAA has its own limits on production and consumption of controlled substances that EPA must adhere to and enforce.

Under 40 CFR 82.13, producers, importers, exporters, and distributors of Class I ozone-depleting substances (ODS) must meet quarterly, annual, and/or transactional recordkeeping and reporting requirements. This information collection is conducted to meet U.S. obligations under the Montreal Protocol.

The reporting and recordkeeping requirements for Class I ODS will enable EPA to: (1) Ensure compliance with the restrictions on production, import, and export of Class I controlled substances; (2) allow exempted production and import for certain uses and the consequent tracking of that production and import; (3) address industry and Federal concerns regarding the illegal import of mislabeled used controlled substances; (4) satisfy the United States' obligations to report data under Article 7 of the Montreal Protocol; (5) fulfill statutory obligations under Section 603(b) of the CAA for reporting and monitoring; (6) provide information to report to the U.S. Congress on the production, use, and consumption of Class I controlled substances as statutorily required in Section 603(d) of Title VI of the CAA.

The reported data will enable EPA to maintain compliance with the Protocol requirements for annual data submission on the production of ODS and analyze technical use data to ensure that exemptions are used in accordance with requirements included in the annual authorization rulemakings.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Chemical Producers, Importers, and Exporters (CFCs); Research and Development (Laboratories); and MeBr Producers, Importers, Exporters, Distributors, and Applicators.

Estimated Number of Respondents: 1143.

Frequency of Response: quarterly, annually, occasionally.

Estimated Total Annual Hour Burden: 2583 hours.

Estimated Total Annual Cost: $277,085, which includes $271,550 in labor costs and $5,535 in operation and maintenance costs.

Changes in the Estimates: There is a decrease of 227 hours in the total estimated burden currently identified in the OMB Inventory of Approved ICR Burdens. This decrease is due to the continued phaseout and decreased use of Class I controlled substances, which subsequently reduces reporting obligations. EPA also offers electronic reporting to the regulated community via the Agency's central data exchange (CDX), which has contributed to the reduction in burden for both the Agency as well as the regulated community.

John Moses,
Director, Collection Strategies Division.

[FR Doc. 2012-8054 Filed 4-3-12; 8:45 am]

BILLING CODE 6560-50-P